DEPARTMENT OF COMMERCE

National Oceanic and Atmospheric Administration

Hydrographic Services Review Panel Meeting, May 29, 2025

AGENCY: Office of Coast Survey, National Ocean Service, National Oceanic and Atmospheric Administration (NOAA), Department of Commerce.

ACTION: Notice of public meeting; request for comments.

SUMMARY: NOAA will hold a virtual Hydrographic Services Review Panel (HSRP) Federal Advisory Committee public meeting on Thursday, May 29, 2025. NOAA will accept public comments in advance and during the virtual meeting.

DATES: Members of the public may attend the NOAA HSRP public meeting virtually via GoToWebinar on Thursday, May 29, 2025, from 1:00-6:30 p.m. Eastern Daylight Time (EDT). Written comments must be received before 8 a.m. EDT on Tuesday, May 27, 2025.

ADDRESSES: Public comments may be submitted by the following methods:

Email: Send written comments in advance of the HSRP public meeting to hydroservices.panel@noaa.gov, with “May 2025 HSRP meeting public comments” in the subject line of the email message. Public comments sent in advance of the HSRP public meeting will be shared with the HSRP members, posted on the meeting website, and included in the public record for the meeting.

Webinar: The latest version of the agenda and information on how to register to attend the webinar can be found at https://www.nauticalcharts.noaa.gov/hsrp/hsrp.html. Attendees must register to attend the webinar in advance of joining. Registration will remain open throughout the duration of the webinar. Submit written comments during the HSRP public meeting through the HSRP webinar's “Questions” function. Public comments submitted through the webinar's “Questions” function will be read into the record during the public comment period.

As time allows during the public meeting webinar, commenters may be invited to orally expand on written comments they submitted via email during the public comment period.

Instructions: The oral and written comments NOAA receives are considered part of the public record, and the entirety of the comment, including the name of the commenter, email address, attachments, and other supporting materials, will be publicly accessible. Sensitive personally identifiable information, such as account numbers and Social Security numbers, and confidential business information should not be submitted. Comments that contain profanity, vulgarity, threats, or other inappropriate language will not be considered. Commenters are encouraged to ensure comments address the HSRP meeting, the role of the HSRP, or general hydrographic services issues.

FOR FURTHER INFORMATION CONTACT: Amanda Phelps, Office of Coast Survey, 240-543-0266; NOAA HSRP Program Manager, email: hydroservices.panel@noaa.gov.

SUPPLEMENTARY INFORMATION: The Hydrographic Services Improvement Act of 1998, as amended (HSIA; 33 U.S.C. 892 et seq.), established the HSRP as a Federal Advisory Committee to advise the NOAA Administrator “on matters related to the responsibilities and authorities set forth in (33 U.S.C. 892a)” of the HSIA, “and such other appropriate matters as the Administrator refers to the HSRP for review and advice.” (33 U.S.C. 892c.)

The HSRP invites NOAA stakeholder feedback on NOAA's navigation, observations, and positioning data, science, products, and services for the National Ocean Service's Center for Operational Oceanographic Products and Services, National Geodetic Survey, and Office of Coast Survey, and the NOAA/University of New Hampshire Joint Hydrographic Center.

Special Accommodations:

This public meeting is accessible to people with disabilities and there will be sign language interpretation and captioning services. Please direct requests for other auxiliary aids to hydroservices.panel@noaa.gov at least 10 business days in advance of the meeting.

Exceptional Circumstances:

Pursuant to 41 CFR 102-3.150, the notice for this meeting is given fewer than 15 calendar days prior to the meeting due to exceptional circumstances. It is imperative that the HSRP Federal Advisory Committee public meeting proceed as scheduled, as Committee members have made business plans to attend the meeting, there is no other meeting date in a reasonable time frame that would accommodate schedules without causing undue financial burden, and there is an immediate business and mission need for the Federal Advisory Committee to convene to establish its workflows and anticipated products.

(Authority: 33 U.S.C. 892 et seq.)

Benjamin K. Evans,
Director, Office of Coast Survey, National Ocean Service, National Oceanic and Atmospheric Administration.

[FR Doc. 2025-08889 Filed 5-16-25; 8:45 am]

BILLING CODE 3510-G1-P